NATIONAL SCIENCE FOUNDATION

Advisory Committee for International Science and Engineering; Notice of Meeting

In accordance with the Federal Advisory Committee Act (Pub. L. 92-463, as amended), the National Science Foundation announces the following meeting:

NAME: Advisory Committee for International Science and Engineering (#25104).

DATE & TIME:

July 28, 2016; 8:00 a.m. to 5:15 p.m.

July 29, 2016; 9:00 a.m. to 12:30 p.m.

PLACE: National Science Foundation, 4201 Wilson Boulevard, Stafford II, Suite 1155, Arlington, Virginia 22230.

To facilitate entry into the building, contact Diane Drew (ddrew@nsf.gov). Your request should be received on or prior to July 26, 2016.

TYPE OF MEETING: OPEN.

CONTACT PERSON: Rebecca Keiser, Head, Office of International Science and Engineering, National Science Foundation, 4201 Wilson Boulevard, Stafford II, Suite 1155, Arlington, Virginia 22230; 703-292-7727.

PURPOSE OF MEETING: To provide advice and recommendations concerning support for research, education and related activities involving the U.S. science and engineering community working in a global context as well as strategic efforts to promote a more effective NSF role in international science and engineering.

Agenda

Thursday, July 28, 2016

Welcome and Opening Remarks

Minutes from January 2016 meeting

FACA Briefing

International Science and Engineering Update (OISE)

Committee and Subcommittee Planning

International Strategy for NSF Big Ideas

NSF Engagement with Africa

Friday, July 29, 2016

Council of Graduate Schools Report on Evaluating International Research Experiences for Graduate Students

Subcommittee Planning (continued)

Closing Remarks and Wrap Up

A final detailed agenda may be obtained at the OISE Web site at http://www.nsf.gov/od/oise/advisory.jsp.

Dated: June 16, 2016.
Crystal Robinson,
Committee Management Officer.

[FR Doc. 2016-14659 Filed 6-21-16; 8:45 am]

BILLING CODE 7555-01-P